DEPARTMENT OF HOUSING AND URBAN DEVELOPMENT

[Docket No. FR-6164-N-03]

Notice of Regulatory Waiver Requests Granted for the Third Quarter of Calendar Year 2019

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2019 and ending on September 30, 2019.

FOR FURTHER INFORMATION CONTACT: For general information about this notice, contact Aaron Santa Anna, Acting Associate General Counsel for Legislation and Regulations, Department of Housing and Urban Development, 451 7th Street SW, Room 10282, Washington, DC 20410-0500, telephone 202-708-5300 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2019.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2019 through September 30, 2019. For ease of reference, the waivers granted by HUD are listed by HUD program office (for example, the Office of Community Planning and Development, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2019) before the next report is published (the fourth quarter of calendar year 2019), HUD will include any additional waivers granted for the third quarter in the next report.

Accordingly, information about approved waiver requests pertaining to HUD regulations is provided in the Appendix that follows this notice.

Dated: November 15, 2019.
J. Paul Compton Jr.,
General Counsel.

Appendix

Listing of Waivers of Regulatory Requirements Granted by Offices of the Department of Housing and Urban Development July 1, 2019 Through September 30, 2019

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.252(d)(1) Utility Allowance Requirements.

Project/Activity: Contra Costa County, California, requested a waiver of 24 CFR 92.252(d)(1) to allow use of utility allowance established by local public housing agency (PHA) for a HOME-assisted project—Antioch Scattered Site.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects.

Granted By: David C. Woll Jr., Principal Deputy Assistant Secretary for Community Planning and Development.

Date Granted: July 30, 2019.

Reason Waived: The HOME requirements for establishing a utility allowances conflict with Project Based Voucher program requirements. It is not possible to use two different utility allowances to set the rent for a single unit and it is administratively burdensome to require a project owner to establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 24 CFR 92.252(d)(1) Utility Allowance Requirements.

Project/Activity: Oakland County, California, requested a waiver of 24 CFR 92.252(d)(1) to allow use of utility allowance established by local public housing agency (PHA) for a HOME-assisted project—3628 San Pablo Avenue.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed.

Granted By: David C. Woll Jr., Principal Deputy Assistant Secretary for Community Planning and Development.

Date Granted: August 27, 2019.

Reason Waived: The HOME requirements for establishing a utility allowances conflict with Project Based Voucher program requirements. It is not possible to use two different utility allowances to set the rent for a single unit and it is administratively burdensome to require a project owner to establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 24 CFR 92.252(d)(1) Utility Allowance Requirements.

Project/Activity: City of San Buenaventura, California, requested a waiver of 24 CFR 92.252(d)(1) to allow use of utility allowance established by local public housing agency (PHA) for a HOME-assisted project—Westview Village Phase 1.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects.

Granted By: David C. Woll Jr., Principal Deputy Assistant Secretary for Community Planning and Development.

Date Granted: September 10, 2019.

Reason Waived: The HOME requirements for establishing a utility allowances conflict with Project Based Voucher program requirements. It is not possible to use two different utility allowances to set the rent for a single unit and it is administratively burdensome to require a project owner to establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 24 CFR 92.252(d)(1) Utility Allowance Requirements.

Project/Activity: City of Santa Rosa, California, requested a waiver of 24 CFR 92.252(d)(1) to allow use of utility allowance established by local public housing agency (PHA) for a HOME-assisted project—Parkwood Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects.

Granted By: David C. Woll Jr., Principal Deputy Assistant Secretary for Community Planning and Development.

Date Granted: September 10, 2019.

Reason Waived: The HOME requirements for establishing a utility allowances conflict with Project Based Voucher program requirements. It is not possible to use two different utility allowances to set the rent for a single unit and it is administratively burdensome to require a project owner to establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 75 FR 64328, II.B.3.a.

Project/Activity: The State of West Virginia—Riverview at Clendenin Building.

Nature of Requirement: The Housing and Economic Recovery Act of 2008 (HERA) requires, to the maximum extent practicable and for the longest feasible term, the sale, rental or redevelopment of abandoned and foreclosed Neighborhood Stabilization Program (NSP)-assisted homes and residential properties remain affordable to individuals or families whose incomes do not exceed 120 percent of area median income. Section II.B.3.a of the NSP Federal Register Notice implementing HERA requires grantees to adopt, at a minimum, the HOME program standards in 24 CFR part 92 to comply with the continued affordability requirement.

Granted By: David C. Woll, Jr., Principal Assistant Secretary for Community Planning and Development.

Date Granted: April 2, 2019.

Reason Waived: The Riverview at Clendenin Building was redeveloped using NSP funds, historic tax credits and developer equity to produce 18 housing units for seniors on the first and third floors and a health clinic on the second floor. The project is in the 500-year floodplain and was greatly impacted by a 1,000-year flood event on June 23, 2016. The first-floor units and building mechanicals were destroyed by water and mud that rose up to just below the second floor. The State requested the waiver because the State determined it was not feasible to continue to use the first floor for housing. The waiver allows the State of West Virginia to redevelop the first floor of the building for non-residential uses while returning the second and third floors to their intended uses. The state will explore options for developing replacement housing units at a different site to replace the lost first-floor units.

Contact: Steve Johnson, Director, Entitlement Communities Division, Community Planning and Development, U.S. Department of Housing and Urban Development, 451 Seventh Street SW, Room 7282, Washington, DC 20410, telephone (202) 402-4548.

• Regulation: 24 CFR 570.207(b)(4).

Project/Activity: Extension of waiver for emergency grant payments for Santa Barbara County, CA.

Nature of Requirement: The regulations at 24 CFR 570.207(b)(4) prohibit the use of CDBG funds for income payments except in the case of emergency grant payments made for up to three consecutive months to a service provider, respectively.

Granted By: David C. Woll, Jr., Principal Assistant Secretary for Community Planning and Development.

Date Granted: September 9, 2019.

Reason Waived: The Santa Barbara County wildfires and subsequent mudslides caused substantial damage to neighborhoods throughout the county. A Presidentially declared disaster declaration (FEMA-4353-DR) was issued on October 10, 2017. The county requested an extension of its August 20, 2018, waiver of the limitation on emergency grant payments to facilitate recovery and assist individuals and families affected by the disaster. The waiver extends emergency grant payments to individuals for up to six consecutive months. The waiver granted will allow the county to expedite recovery efforts for low and moderate income residents affected by the wildfires and subsequent mudslides; pay for additional support services for affected individuals and families, including, but not limited to, food, health, employment, and case management services to help county residents impacted by the fires and enable the county to pay for the basic daily needs of individuals and families affected by the fires on an interim basis.

Contact: Steve Johnson, Director, Entitlement Communities Division, Department of Housing and Urban Development, 451 Seventh Street SW, Room 7282, Washington, DC 20410, telephone (202) 402-4548.

• Regulation: 24 CFR 91.105(c)(2) and (k).

Project/Activity: San Bernardino County, CA.

Nature of Requirement: 24 CFR 91.105(c)(2) requires the citizen participation plan to provide residents with reasonable notice and an opportunity to comment on substantial amendments to the consolidated plan. The citizen participation plan must state how reasonable notice and an opportunity to comment will be given and require a 30-day public comment period prior to the implementation of a substantial amendment. 24 CFR 91.105(k) requires the grantee to follow its citizen participation plan.

Granted By: David C. Woll, Jr., Principal Assistant Secretary for Community Planning and Development.

Date Granted: September 10, 2019.

Reason Waived: San Bernardino County earthquakes and subsequent aftershocks caused substantial damage to Trona, an unincorporated community located in San Bernardino County. An Emergency Management declaration (FEMA-3415-EM) was issued on July 8, 2019. The waiver reduces the public comment period from thirty to seven days and allows the county of San Bernardino to determine what constitutes reasonable notice to comment on the proposed amendments to its Consolidated Plan. These waived CDBG requirements allow the county to expedite recovery efforts for low- and moderate-income residents affected by the earthquakes and aftershocks.

Contact: Steve Johnson, Director, Entitlement Communities Division, Department of Housing and Urban Development, 451 Seventh Street SW, Room 7282, Washington, DC 20410, telephone (202) 402-4548.

• Regulation: 24 CFR 91.105(c)(2) requires the citizen participation plan to provide residents with reasonable notice and an opportunity to comment on substantial amendments to the consolidated plan. The citizen participation plan must state how reasonable notice and an opportunity to comment will be given and require a 30-day public comment period prior to the implementation of a substantial amendment. 24 CFR 91.105(k) requires the grantee to follow its citizen participation plan.

Project/Activity: City and County of Honolulu.

Nature of Requirement: 24 CFR 91.105(c)(2) and (k) require a 30-day public comment period.

Granted By: David C. Woll, Jr., Principal Assistant Secretary for Community Planning and Development.

Date Granted: September 13, 2019.

Reason Waived: The Honolulu floods caused substantial damage to neighborhoods throughout the island of Oahu. A Presidentially declared disaster declaration (FEMA-4365-DR) was issued on May 8, 2018. The city and county requested a waiver for the CDBG public comment period from thirty to five days to expedite recovery and assist individuals and families affected by the disaster.

Contact: Steve Johnson, Director, Entitlement Communities Division, Department of Housing and Urban Development, 451 Seventh Street SW, Room 7282, Washington, DC 20410, telephone (202) 402-4548.

II. Regulatory Waivers Granted by the Office of Housing—Federal Housing Administration (FHA)

For further information about the following regulatory waivers, please see the name of the contact person that immediately follows the description of the waiver granted.

• Regulation: 24 CFR 219.220(b).

Project/Activity: Gloria Dei Manor/Augustana Lutheran Homes, FHA Project Number 092-SH128, Litchfield, MN. Augustana Lutheran Homes, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted By: Brian D. Montgomery, Assistant Secretary for Housing-Federal Housing Commissioner.

Date Granted: August 8, 2019.

Reason Waived: The Owner requested and was granted waiver of the requirement to repay the Flexible Subsidy Operating Assistance Loan in full when it became due. Deferring the loan payment will preserve the affordable housing resource for an additional 30 years through the execution and recordation of a Rental Use Agreement.

Contact: Nathaniel Johnson, Senior Account Executive, Department of Housing and Urban Development, 451 Seventh Street SW, Washington, DC 20410, telephone (202) 402-5156.

• Regulation: 24 CFR 219.220(b).

Project/Activity: Memorial Apartments, FHA Project Number 052-35724, Baltimore, MD. Memorial Development Partners, Limited Partnership (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted By: Brian D. Montgomery, Assistant Secretary for Housing—Federal Housing Commissioner.

Date Granted: September 3, 2019.

Reason Waived: The Owner requested and was granted waiver of the requirement to repay the Flexible Subsidy Operating Assistance Loan in full when it became due. Deferring the loan payment will preserve the affordable housing resource for an additional 40 years through the execution and recordation of a Rental Use Agreement.

Contact: Cindy Bridges, Senior Account Executive, Department of Housing and Urban Development, 451 Seventh Street SW, Washington, DC 20410-8000, telephone (202) 402-2603.

• Regulation: 24 CFR 219.220(b)(1995).

Project/Activity: Presbyterian Apartments, FHA Project Number 034-SH006, Harrisburg, PA. The owner request to defer repayment of the Flexible Subsidy loan on the subject project.

Nature of Requirement: The regulation at 24 CFR 219.220(b)(1995), which governs the repayment operating assistance provided under the Flexible Subsidy Program for Troubled Projects, states “Assistance that has been paid to a project owner under this subpart must be repaid at the earlier of expiration of the term of the mortgage, termination of mortgage insurance, prepayment of the mortgage, or a sale of the project.”

Granted By: Brian Montgomery, Assistant Secretary for Housing-Federal Housing Commissioner.

Date Granted: August 8, 2019.

Reason Waived: Pursuant to the authority contained in 24 CFR 5.110, good cause has been shown that it is in the public's best interest to grant this waiver.

Contact: Mirline Labissiere, Transaction Manager, Department of Housing and Urban Development, 451 Seventh Street SW, Washington, DC 20410, telephone (202) 402-6207.

• Regulation: 24 CFR 219.220(b)(1995).

Project/Activity: Jefferson Towers Apartments, FHA Number: 047-SH018, Muskegon, Michigan. The owner request to defer repayment of the Flexible Subsidy loan on the subject project.

Nature of Requirement: The regulation at 24 CFR 219.220(b)(1995), which governs the repayment operating assistance provided under the Flexible Subsidy Program for Troubled Projects, states “Assistance that has been paid to a project owner under this subpart must be repaid at the earlier of expiration of the term of the mortgage, termination of mortgage insurance, prepayment of the mortgage, or a sale of the project.”

Granted By: Brian Montgomery, Assistant Secretary for Housing-Federal Housing Commissioner.

Date Granted: August 8, 2019.

Reason Waived: Pursuant to the authority contained in 24 CFR 5.110, good cause has been shown that it is in the public's best interest to grant this waiver.

Contact: Mirline Labissiere, Transaction Manager, Department of Housing and Urban Development, 451 Seventh Street SW, Washington, DC 20410, telephone (202) 402-6207.

• Regulation: 24 CFR 232.7.

Project/Activity: Oak Hills Terrace, FHA #113-22278, is an Assisted Living/Memory Care facility. The facility does not meet the requirements of 24 CFR 232.7 “Bathroom” of FHA's regulations. The project location is Tyler, TX.

Nature of Requirement: The regulation at 24 CFR 232.7 mandates in a board and care home or assisted living facility that not less than one full bathroom must be provided for every four residents. Also, the bathroom cannot be accessed from a public corridor or area.

Granted By: Brian D. Montgomery, Assistant Secretary for Housing—Federal Housing Commissioner.

Date Granted: August 9, 2019.

Reason Waived: The project currently has a resident to shower ratio of 7:1. The memory care residents require assistance with bathing. These residents are housed in units in a secure, lock-down area, with a half-bathroom each and access to the shower rooms through a hallway. The project meets the State of Texas's licensing requirements for bathing and toileting facilities.

Contact: Nicole M. Johnson, Operations, Office of Healthcare Programs, Office of Housing, Department of Housing and Urban Development, 1670 Broadway, 23rd Floor, Denver, CO 80202, telephone (303) 672-5401.

• Regulation: 24 CFR 232.7.

Project/Activity: The Retreat and Retreat Gardens, FHA #116-22026, is an Assisted Living/Memory Care facility. The facility does not meet the requirements of 24 CFR 232.7 “Bathroom” of FHA's regulations. The project location is Rio Rancho, New Mexico.

Nature of Requirement: The regulation at 24 CFR 232.7 mandates in a board and care home or assisted living facility that not less than one full bathroom must be provided for every four residents. Also, the bathroom cannot be accessed from a public corridor or area.

Granted By: Brian D. Montgomery, Assistant Secretary for Housing—Federal Housing Commissioner.

Date Granted: August 9, 2019.

Reason Waived: The project currently has a resident to shower ratio of 5:1. The memory care residents require assistance with bathing. These residents are housed in units in a secure, lock-down area, with a half-bathroom each and access to the shower rooms through a hallway. The project meets the State of New Mexico's licensing requirements for bathing and toileting facilities.

Contact: Nicole M. Johnson, Operations, Office of Healthcare Programs, Office of Housing, Department of Housing and Urban Development, 1670 Broadway, 23rd Floor, Denver, CO 80202, telephone (303) 672-5401.

• Regulation: 24 CFR 266.410(e).

Project/Activity: Colorado Housing and Finance Agency (CHFA), Denver, Colorado, no project number. The Agency have requested approval of a one-year extension of the waiver through July 31, 2020.

Nature of Requirement: The 24 CFR 266.410(e), which requires mortgages insured under the 542(c) Housing Finance Agency Risk Sharing Program to be fully amortized over the term of the mortgage. The waiver would permit CHFA to use balloon loans that would have a minimum term of 17 years and a maximum amortization period of 40 years for the projects identified in the “Multifamily Pipeline Projects”.

Granted By: Brian D. Montgomery, Assistant Secretary for Housing-Federal Housing Commissioner.

Date Granted: July 12, 2019.

Reason Waived: The extension would provide the CHFA additional time to process the financial transactions. CHFA would offer Balloon Loans which have become a standard product in the affordable housing industry. Granting this request will reduce Colorado Housing and Finance Agency's cost of capital, which should translate into lower rates for their borrowers, and will support their preservation efforts.

Contact: Patricia M. Burke, Director, Office of Multifamily Production, HTD, Department of Housing and Urban Development, 451 Seventh Street SW, Washington, DC 20410-8000, telephone (202) 402-5693.

• Regulation: 24 CFR 891.805.

Project/Activity: Forest Towers-Metro, FHA Number 075-EH051, and Meadows Apartments, FHA Number 075-EH354, Milwaukee, Wisconsin. The Steele Lakeshore, Limited Partnership (Proposed Owner) seeks approval of the single-asset entity requirement that will allow the projects to participate in Low-Income Housing Tax Credits (LIHTC) granted by the Wisconsin Housing and Economic Development Authority. The projects will be substantially rehabilitated and combined for financing purposes as a single property.

Nature of Requirement: The regulation at 24 CFR 891.805, Subpart F “For-Profit Limited Partnerships and Mixed-Finance Development for Supportive Housing for the Elderly or Persons with Disabilities.” Specifically, that provision, 24 CFR 891.805 “Definitions,” which defines the term “Mixed-finance owner” as “. . . a single-asset, for-profit limited partnership of which a private nonprofit organization is the sole general partner.”

Granted By: Brian D. Montgomery, Assistant Secretary for Housing—Federal Housing Commissioner.

Date Granted: August 27, 2019.

Reason Waived: The Owner requested and was granted waiver of the single-asset entity requirement at 24 CFR 891.805 to allow the projects to be owned by a single for-profit Limited Partnership to facilitate tax credit financing. Granting this waiver allows the projects to participate in LIHTC financing and meet the Department's criteria with respect to the refinancing and rehabilitation.

Contact: Crystal Martinez, Senior Account Executive, Department of Housing and Urban Development, 451 Seventh Street SW, Washington, DC 20410-8000, telephone (202) 402-3718.

III. Regulatory Waivers Granted by the Office of Public and Indian Housing

For further information about the following regulatory waivers, please see the name of the contact person that immediately follows the description of the waiver granted.

• Regulation: 24 CFR 5.801(c) and 24 CFR 5.801(d)(1).

Project/Activity: Municipality of San Lorenzo (RQ037).

Nature of Requirement: The regulation establishes certain reporting compliance dates. The audited financial statements are required to be submitted to the Real Estate Assessment Center (REAC) no later than nine months after the housing authority's (HA) fiscal year end (FYE), in accordance with the Single Audit Act and OMB Circular A-133.

Granted By: R. Hunter Kurtz, Assistant Secretary for Public and Indian Housing.

Date Granted: August 30, 2019.

Reason Waived: The HA requested relief from compliance for additional time to submit its financial reporting requirements for the fiscal year end (FYE) of June 30, 2018. The HA is still recovering from damages resulting from Hurricane Maria that were compounded by Hurricane Dorian, which began September 5, 2019. The circumstances preventing the HA from submitting its FYE 2018 audited financial data by the due date was acceptable. Accordingly, the HA has until August 31, 2019, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Puerto Rico Department of Housing (RQ901).

Nature of Requirement: The regulation establishes certain reporting compliance dates. The audited financial statements are required to be submitted to the Real Estate Assessment Center (REAC) no later than nine months after the housing authority's (HA) fiscal year end (FYE), in accordance with the Single Audit Act and OMB Circular A-133.

Granted By: R. Hunter Kurtz, Assistant Secretary for Public and Indian Housing.

Date Granted: August 30, 2019.

Reason Waived: The HA requested relief from compliance for additional time to submit its financial reporting requirements for the fiscal year end (FYE) of June 30, 2018. The HA is still recovering from damages resulting from Hurricane Maria that were compounded by Hurricane Dorian, which began September 5, 2019. The circumstances preventing the HA from submitting its FYE 2018 audited financial data by the due date was acceptable. Accordingly, the HA has until September 30, 2019, to submit its audited financial information to the Department. The approval of the Financial Assessment Subsystem (FASS) audited financial submission only permits the extension for filing. The HA is required to contact the HUDOIG Single Audit Coordinator at HUDOIGSingleAuditCoordinator@hudoig.gov for Single Audit extensions applicable to the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 983.503(a)(3).

Project/Activity: Housing Catalyst in Fort Collins, CO, requested a waiver of 24 CFR 983.503(a)(3) to set payment standards specific to its HUD-VASH program for one-bedroom and two-bedroom units.

Nature of Requirement: The regulation 24 CFR 983.503(a)(3) states that the PHA must establish one payment standard for each unit size in its program.

Granted By: R. Hunter Kurtz, Assistant Secretary for Public and Indian Housing.

Date Granted: July 19, 2019.

Reason Waived: Housing Catalyst has demonstrated that a high percentage of HUD-VASH voucher recipients were unsuccessful in finding a unit due to extremely low vacancy rates, increasing rents, and scarcity of one-bedroom units. The higher payment standards for HUD-VASH participants will help participants find housing in a reasonable timeframe.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 985.101(a).

Project/Activity: Cozad Housing Authority in Dawson, Nebraska, requested a waiver of 24 CFR 985.101(a) for HUD to approve their SEMAP certification submission after the end of the fiscal year.

Nature of Requirement: The regulation at 24 CFR 985.101(a) states that the PHA must submit the HUD-required SEMAP certification form within 60 calendar days after the end of the fiscal year.

Granted By: R. Hunter Kurtz, Assistant Secretary for Public and Indian Housing.

Date Granted: July 23, 2019.

Reason Waived: Due to unexpected staffing and system related issues, CHA was not able to submit their SEMAP before the deadline. Approval of this waiver prevents the waste of staff resources and funding needed to complete corrective action plans and conduct site visits at an agency that does not have compliance related issues.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 983.301(f)(2)(ii).

Project/Activity: The Housing Authority of the City of Buenaventura (HACSB) in Ventura, California, requested a waiver of 24 CFR 983.301(f)(2)(ii) to establish a site-specific utility allowance for all project-based voucher units at Westview Village 1.

Nature of Requirement: The regulation 24 CFR 983.301(f)(2)(ii) states that the PHA may not establish or apply different utility allowance amounts for the project-based voucher (PBV) program. The same PHA utility allowance schedule applies to both the tenant-based and PBV programs.

Granted By: R. Hunter Kurtz, Assistant Secretary for Public and Indian Housing.

Date Granted: July 31, 2019.

Reason Waived: HACSB has demonstrated that the utility allowance provided under the HCV Program would discourage conservation and ultimately lead to inefficient use of HAP funds at Westview Village I.

Contact: Becky Primeaux, Housing Voucher Management and Operations Division, Office of Public Housing and Voucher Programs, Office of Public and Indian Housing, Department of Housing and Urban Development, 451 Seventh Street SW, Room 4216, Washington, DC 20410, telephone (202) 708-0477.

[FR Doc. 2019-25390 Filed 11-21-19; 8:45 am]

BILLING CODE 4210-67-P